DEPARTMENT OF COMMERCE

National Oceanic and Atmospheric Administration

Availability of Seats for the Stellwagen Bank National Marine Sanctuary Advisory Council

AGENCY: National Marine Sanctuary Program (NMSP), National Ocean Service (NOS), National Oceanic and Atmospheric Administration, Department of Commerce (DOC).

ACTION: Notice and request for applications.

SUMMARY: The Stellwagen Bank National Marine Sanctuary (SBNMS) is seeking applicants for the following vacant seats on its Sanctuary Advisory Council (Council): Member (voting) seats: Research (2), Education (2), Conservation (2), Marine Transportation (1), Recreation (1), Whale Watching (1), Mobile Gear Commercial Fishing (1), Fixed Gear Commercial Fishing (1), Business/Industry (1), and At-Large (3); and the following Alternate (non-voting) seats: Research (2), Education (2), Conservation (2), Marine Transportation (1), Recreation (1), Whale Watching (1), Mobile Gear Commercial Fishing (1), Fixed Gear Commercial Fishing (1), Business/Industry (1), and At-Large (3). The Department of Commerce General Counsel requires that all advisory committees must issue a Federal Register notice. Applicants are chosen based upon their particular expertise and experience in relation to the seat for which they are applying; community and professional affiliations; philosophy regarding the protection and management of marine resources; and possibly the length of residence in the area affected by the Sanctuary. Applicants who are chosen as members should expect to serve a 2 to 3-year term, pursuant to the Council's Charter.

DATES: Applications are due by February 20, 2004.

ADDRESSES: Application kits may be obtained from Ruthetta Halbower, Administrative Secretary, SBNMS, 175 Edward Foster Road Scituate, MA 02066. Telephone: 781-545-8026 X 201. E-mail: ruthetta.halbower@noaa.gov. Or applications can be downloaded from the SBNMS web site: http://stellwagen.nos.noaa.gov/management/sac/charter.html. Completed applications should be sent to the same address.

FOR FURTHER INFORMATION CONTACT: Nathalie Ward, Sanctuary Advisory Council Coordinator 175 Edward Foster Road Scituate, MA 02066. Telephone: 781-545-8026 X 206 E-mail: nathalie. ward@noaa.gov.

SUPPLEMENTARY INFORMATION: The SBNMS Sanctuary Advisory Council (SAC or council) is a community-based advisory group established to advise the Sanctuary Superintendent and staff on issues relevant to the effective implementation of the Sanctuary Management Plan. The Council is the formal organizational link to the Sanctuary's user community and others interested in the management of this nationally significant area of the marine environment.

Duties of the Council include:

• Providing advice and recommendations to the Superintendent regarding management of the Sanctuary drawing upon the expertise of its members and other sources;

• Serving as liaisons between their communities and the Sanctuary, by keeping the Sanctuary staff informed of issues and concerns, as well as performing outreach to their respective communities on the Sanctuary's behalf; and

• Serving as a forum for consultation and deliberation among its members and as a source of consensus advice to the Superintendent.

The Council membership is to be made up of 15 non-governmental voting members and six governmental ex-officio members (non-voting). The non-governmental members are selected to represent local user groups, conservation and other public interest organizations, scientific and educational organizations, or members of the public interested in the protection and multiple use management of Sanctuary resources. Representatives from the following groups will be chosen: Conservation (2), education (2), research (2), recreation (1), whale watching (1), fixed fishing gear (1), mobile fishing gear (1), marine transportation (1), business/industry (1); and citizens-at-large (3).

The governmental members are to represent agencies with regulatory authorities or other direct interests in the Sanctuary and its resources. The member organizations are:

National Marine Fisheries Service Northeast Regional Center (federal fisheries and protected species management);

New England Regional Fishery Management Council (federal fisheries management planning);

U.S. Coast Guard (federal marine resources and maritime enforcement);

Massachusetts Office of Coastal Zone Management (state-federal ocean management consistency);

Massachusetts Division of Marine Fisheries (state ocean fisheries management); and

Massachusetts Division of Law Enforcement (cooperative state-federal environmental law enforcement).

Authority: 16 U.S.C. Sections 1431, et seq.

(Federal Domestic Assistance Catalog Number 11.429 Marine Sanctuary Program)
Dated: January 7, 2004.
Richard W. Spinrad,
Assistant Administrator, Ocean Services and Coastal Zone Management, National Oceanic and Atmospheric Administration.

[FR Doc. 04-726 Filed 1-13-04; 8:45 am]

BILLING CODE 3510-NK-M